DEPARTMENT OF HEALTH AND HUMAN SERVICES

Centers for Disease Control and Prevention

Capacity-Building Assistance for Global HIV/AIDS Microbiological Laboratory Program Development Through Technical Assistance Collaboration

Announcement Type: New.

Funding Opportunity Number: RFA# AA012.

Catalog of Federal Domestic Assistance Number: 93.067.

Key Dates:

Application Deadline: September 6, 2005.

I. Funding Opportunity Description

Authority: This program is authorized under Sections 301(a) and 307 of the Public Health Service Act [42 U.S.C. Sections 241 and 242l], as amended, and under Public Law 108-25 (United States Leadership Against HIV/AIDS, Tuberculosis and Malaria Act of 2003) [U.S.C. 7601].

Background: President Bush's Emergency Plan for AIDS Relief has called for immediate, comprehensive and evidence-based action to turn the tide of global HIV/AIDS. The initiative aims to treat more than two million HIV-infected people with effective combination anti-retroviral therapy by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/or/c11652.htm.

Purpose: Under the leadership of the U.S. Global AIDS Coordinator, as part of the President's Emergency Plan, the U.S. Department of Health and Human Services (HHS) works with host countries and other key partners to assess the needs of each country and design a customized program of assistance that fits within the host nation's strategic plan.

The purpose of this funding announcement is to build progressively an indigenous, sustainable response to national HIV epidemics through the raped expansion of innovative, culturally appropriate, high-quality HIV/AIDS prevention and care interventions, and to support laboratory capacity building assistance for HIV/AIDS program development through technical assistance (TA) as part of President Bush's Emergency Plan for AIDS Relief. The term “capacity-building assistance” means the provision of information, technical assistance, training, and technology transfer for individuals and organizations to improve the delivery and effectiveness of HIV prevention, care and treatment services and interventions. This includes the delivery of direct HIV prevention, care or treatment interventions. This program addresses the goals of the President's Emergency Plan as cited above.

The goals of this funding announcement are to address microbiological laboratory capacity-building needs in Emergency Plan countries in two focus areas: (1) Strengthening laboratory organizational and technical infrastructure, especially as it relates to clinical microbiology for HIV prevention, care and treatment programs; and (2) assuring the quality of laboratory testing and HIV test results by instituting systematic approaches to delivering clinical microbiology services to HIV/AIDS prevention, treatment and care programs.

Measurable outcomes of the program will be in alignment with the performance goals of the President's Emergency Plan and one (or more) of the following performance goal(s) for the National Center for HIV, STD and TB Prevention (NCHSTP) within the Centers for Disease Control and Prevention (CDC) within HHS: Increase the proportion of HIV-infected people who are linked to appropriate prevention, care and treatment services; and strengthen the capacity nationwide to monitor the epidemic, develop and implement effective HIV prevention interventions, and evaluate prevention programs.

This announcement is only for non-research activities supported by HHS/CDC. If an applicant proposes research activities, HHS will not review the application. For the definition of research, please see the HHS/CDC Web site at the following Internet address: http://www.cdc.gov/od/ads/opspoll1.htm.

Activities: Either the awardee will implement activities directly or will implement them through its subgrantees and/or subcontractors; the awardee will retain overall financial and programmatic management under the oversight of HHS/CDC and the strategic direction of the Office of the U.S. Global AIDS Coordinator. The awardee must show a measurable progressive reinforcement of the capacity of indigenous organizations and local communities to respond to the national HIV epidemic, as well as progress towards the sustainability of activities.

Applicants should describe activities in detail as part of a four-year action plan (U.S. Government Fiscal Years 2005-2008 inclusive) that reflects the policies and goals outlined in the five-year strategy for the President's Emergency Plan. Based on its competitive advantage and proven field experience, the winning applicant will undertake a broad range of activities to meet the numerical Emergency Plan targets outlined above. For each of these activities, the awardee will give priority to evidence-based, yet culturally adapted, innovative approaches.

Capacity-building TA activities covered under this cooperative agreement are limited to the following:

1. Strengthen microbiological laboratory organizational and technical infrastructure for HIV prevention, care and treatment programs in Emergency Plan countries.

a. Provide TA in the laboratory management of HIV prevention, care and treatment programs. Examples include, but are not limited to: organizational assessments to determine the needs, resources, readiness and gaps of organizational infrastructure systems (e.g., governance, management, administration, personnel, and fiscal); development of public/private partnership strategies; management information systems (data management); strategic planning; leadership development; team-building; human resources management, including staff, management, retention and training; organizational quality assurance and monitoring; program marketing and public relations; and cross-cultural communications.

b. Plan and conduct site visits, conferences and/or meetings for country public health officials and microbiological laboratory personnel from countries covered by the President's Emergency Plan for AIDS Relief.

c. Provide TA and training, to include strategic planning, training of trainers and development and dissemination of manuals.

2. Assure the quality of laboratory testing and HIV test results by instituting systematic approaches to delivering clinical microbiology services to HIV/AIDS prevention, treatment and care programs.

a. Provide TA in the laboratory design of prevention, care and treatment programs, and in the establishment and/or improvement of laboratory monitoring and evaluation systems for such programs.

b. Develop and disseminate resource toolkits to National/Regional/District AIDS Programs in Emergency Plan countries to assist in the planning, implementation and evaluation of laboratory programs.

c. Modify and/or translate of existing resource materials for use in multiple GAP countries covered by the President's Emergency Plan.

d. Provide TA to support training activities in microbiological techniques and procedures covering bacteriology, including tuberculosis, mycology, parasitology, virology and molecular biology as it relates to HIV/AIDS prevention and care.

e. Assist in the procurement of equipment to improve microbiological testing for HIV/AIDS patients in Emergency Plan countries.

f. Develop a quality-assurance/quality-control program for microbiological testing for HIV/AIDS that is consistent with other HHS/CDC laboratory programs.

g. Provide TA through short- (up to three months), medium- (three months to nine months), and long-term (greater than nine months) assignment of experts to help train and mentor local counterparts to support HIV/AIDS program implementation in Emergency Plan countries.

h. Establish of peer-to-peer TA networks from U.S.-based microbiology laboratories to sister public and private microbiology laboratories to optimize similarities and common technical approaches to providing laboratory support to programs.

i. Develop a system that would allow GAP country laboratory personnel from Emergency Plan countries to participate in study tours of appropriate laboratories in the United States.

j. Provide assistance to educational institutions that offer in-service training of microbiologists in Emergency Plan countries to improve training programs for new microbiologists.

k. Update and share relevant technical, best practice documents and approaches (U.S. and international).

l. Support operations research into new microbiology techniques and services that would feed into HIV/AIDS prevention, treatment and care programs.

m. Procure and deliver necessary laboratory equipment and supplies in support of in-country programs.

Administration

Comply with all HHS management requirements for meeting participation and progress and financial reporting for this cooperative agreement. (See HHS Activities and Reporting sections below for details.) Comply with all policy directives established by the Office of the U.S. Global AIDS Coordinator.

In a cooperative agreement, HHS staff is substantially involved in the program activities, above and beyond routine grant monitoring.

HHS Activities for this program are as follows:

1. Provide policy and program information that would guide the rapid dissemination and implementation of microbiology support to HIV/AIDS programs in targeted countries, in compliance with guidance established by the Office of the U.S. Global AIDS Coordinator.

2. Provide technical advice in the development of systems to implement HHS policies on microbiology for HIV/AIDS programs.

3. Provide consultation and scientific and technical assistance in planning, operating, analyzing and evaluating the microbiology components of HIV prevention, care and treatment laboratory and program evaluation activities.

4. Disseminate current information, including best practices and the guidelines established by the Office of the U.S. Global AIDS Coordinator, in all areas of HIV prevention, care and treatment.

5. Monitor progress in achieving the purpose of this program, as well as project objectives, including for compliance with the strategic information guidance established by the Office of the U.S. Global AIDS Coordinator.

6. Assist in assessing program operations and in evaluating overall effectiveness of programs.

7. Organize an orientation meeting with the awardee to brief them on applicable U.S. Government, HHS, and Emergency Plan expectations, regulations and key management requirements, as well as report formats and contents. The orientation could include meetings with staff from HHS agencies and the Office of the U.S. Global AIDS Coordinator.

8. Review and approve the process used by the awardee to select key personnel and/or post-award subcontractors and/or subgrantees to be involved in the activities performed under this agreement, as part of the Emergency Plan for AIDS Relief Country Operational Plan review and approval process, managed by the Office of the U.S. Global AIDS Coordinator.

9. Review and approve awardee's annual work plan and detailed budget, as part of the Emergency Plan for AIDS Relief Country Operational Plan review and approval process, managed by the Office of the U.S. Global AIDS Coordinator.

10. Review and approve awardee's monitoring and evaluation plan, including for compliance with the strategic information guidance established by the Office of the U.S. Global AIDS Coordinator.

11. Meet on a monthly basis with awardee to assess monthly expenditures in relation to approved work plan and modify plans as necessary.

12. Meet on a quarterly basis with awardee to assess quarterly technical and financial progress reports and modify plans as necessary.

13. Meet on an annual basis with awardee to review annual progress report for each U.S. Government Fiscal Year, and to review annual work plans and budgets for subsequent year, as part of the Emergency Plan for AIDS Relief review and approval process for Country Operational Plans, managed by the Office of the U.S. Global AIDS Coordinator.

II. Award Information

Type of Award: Cooperative Agreement.

HHS/CDC involvement in this program, and the involvement of the Office of the U.S. Global AIDS Coordinator, is listed in the Activities Section above.

Fiscal Year Funds: 2005.

Approximate Total Funding: $6,000,000 (Note: An estimated $100,000 will be awarded to support core activities each year. The remaining funding of up to $1,900,000 per year is for the projected country-specific activities. Country-specific activity requests must receive funding from country budget allocations and be included in the approved Country Operational Plans.

Approximate Number of Awards: One or more.

Approximate Average Award: $2,000,000 (This amount is for the first 12-month budget period, and includes direct costs.)

Floor of Award Range: $100,000.

Ceiling of Award Range: $2,000,000.

(This ceiling is for the first 12-month budget period.)

Anticipated Award Date: September 15, 2005.

Budget Period Length: 12 months.

Project Period Length: Four years.

Throughout the project period, HHS's commitment to continuation of awards will be conditioned on the availability of funds, evidence of satisfactory progress by the recipient (as documented in required reports), and the determination that continued funding is in the best interest of the Federal Government, through the Emergency Plan for AIDS Relief review and approval process for Country Operational Plans, managed by the Office of the U.S. Global AIDS Coordinator.

III. Eligibility Information

III.1. Eligible applicants

Applications may be submitted by:

• Public nonprofit organizations.

• Private nonprofit organizations.

• Universities.

• Colleges.

• For profit organizations.

• Small, minority, women-owned businesses.

• Community-based organizations.

• Research institutions.

• Hospitals.

• Faith-based organizations.

• Federally recognized Indian tribal governments.

• Indian tribes.

• Indian tribal organizations.

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau).

• Political subdivisions of States (in consultation with States).

III.2. Cost Sharing or Matching

Matching funds are not required for this program. Although matching funds are not required, preference will go to organizations that can leverage additional funds to contribute to program goals.

III.3. Other

If applicants request a funding amount greater than the ceiling of the award range, HHS/CDC will consider the application non-responsive, and it will not enter into the review process. We will notify you that your application did not meet the submission requirements.

Special Requirements:

Applications that are incomplete or non-responsive to the special requirements listed in this section will not enter into the review process. We will notify you the application did not meet submission requirements.

• HHS/CDC will consider late applications non-responsive. See section “IV.3. Submission Dates and Times” for more information on deadlines.

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission: HHS strongly encourages the applicant to submit the application electronically by using the forms and instructions posted for this announcement on http://www.Grants.gov, the official Federal agency wide E-grant Web site. Only applicants who apply on-line are permitted to forgo paper copy submission of all application forms.

Paper Submission: Application forms and instructions are available on the HHS/CDC Web site, at the following Internet address: http://www.cdc.gov/od/pgo/forminfo.htm.

If access to the Internet is not available, or if there is difficulty accessing the forms on-line, contact the HHS/CDC Procurement and Grants Office Technical Information Management Section (PGO-TIM) staff at 770-488-2700 and we can mail the application forms to you.

IV.2. Content and Form of Submission

Application: A project narrative must be submitted with the application forms. You must submit the narrative in the following format:

• Maximum number of pages: 30. If your narrative exceeds the page limit, we will only review the first pages within the page limit.

• Font size: 12 point unreduced.

• Double-spaced.

• Paper size: 8.5 by 11 inches.

• Page margin size: One inch.

• Printed only on one side of page.

• Held together only by rubber bands or metal clips; not bound in any other way.

The narrative should address activities to be conducted over the entire project period, and must include the following items in the order listed:

• Program Plan. The program plan will include a description of your program and strategy, objectives, activities and timeline. It will also describe the program contribution to goals and objectives of the Emergency Plan for AIDS Relief.

• Program and Strategy.

Provide a description of your proposed program and the strategy for implementation. Include a description of the administrative, financial, accounting and human resource models used to build organizational infrastructure capacity of national AIDS programs (e.g., grant writing, fiscal management, board development, staff and volunteer development and strategic planning).

• Objectives.

What are your objectives for addressing the general and focus area-specific activities?

• Activities.

What are your proposed activities? These activities must relate to each of the objectives listed above.

• Timeline.

Provide a timeline and list staff responsible for implementing activities in the first year.

• Program Experience.

Describe your organization's program experience as it relates to the proposed activities in this program announcement. Address the methods that you have used to provide similar services in the past. Also include an explanation of how funds used in this cooperative agreement will be used differently, or in ways that will expand upon programs that are supported with existing or future funds. Address your organization's experience and capacity to provide technical assistance that responds effectively to the cultural and linguistic characteristics of your recipients. In answering this question, describe the types of services provided and list any culturally and linguistically appropriate curricula and materials that your organization has adapted or developed.

• Management Plan and Organizational Structure.

Describe your management and staffing plan to conduct or support the essential components of this cooperative agreement. Include an organizational chart that reflects the current management structure and a description of the roles, responsibilities and relationships of all staff supported through this cooperative agreement. Provide resumes of all key staff to demonstrate their qualifications (include in the appendix).

• Measures of Effectiveness.

These must relate to the performance goals stated in the “Purpose” section of this announcement. Measures must be objective and quantitative, and must measure the intended outcome of this cooperative agreement.

• Budget and Budget Justification (not included in page limit).

Include a detailed and justified budget required to accomplish the objectives. If you are requesting indirect costs in your budget, you must include a copy of your approved indirect cost rate agreement. If your indirect cost rate is a provisional rate, the agreement must have been negotiated within the last 12 months. Justify all operating expenses in relation to the planned activities and stated objectives. CDC may not fund or approve all proposed activities. Be precise about the program purpose of each budget item, and itemize calculations wherever appropriate.

The following information should be included in the application appendices, if relevant. The appendices will not be counted toward the narrative page limit. This additional information includes:

• Curriculum Vitaes/Resumes.

• Organizational Charts.

• A list of culturally and linguistically appropriate materials that are available and are currently being delivered.

• A description of funding from other sources (federal, state, local, private, etc.) to conduct similar activities. This should include a summary of current funds received with the name of the sponsoring organization/source of income, level of funding, description of how funds have been used and budget period. Identify proposed personnel who will conduct and oversee the activities of this project and all funding sources supporting these individuals (include their roles and responsibilities).

You must have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711. For more information, see the CDC Web site at: http://www.cdc.gov/od/pgo/funding/grantmain.htm. If the application form does not have a DUNS number field, please write the DUNS number at the top of the first page of the application, and/or include the DUNS number in the application cover letter.

Additional requirements that could require submittal of additional documentation with the application are listed in section “VI.2. Administrative and National Policy Requirements.”

IV.3. Submission Dates and Times

Application Deadline Date: September 6, 2005.

Explanation of Deadlines: Applications must be received in the CDC Procurement and Grants Office by 4 p.m. Eastern Time on the deadline date.

You may submit your application electronically at http://www.grants.gov. We consider applications completed online through Grants.gov as formally submitted when the applicant organization's Authorizing Official electronically submits the application to http://www.grants.gov. We will consider electronic applications as having met the deadline if the applicant organization's Authorizing Official has submitted the application electronically to Grants.gov on or before the deadline date and time.

If you submit your application electronically with Grants.gov, your application will be electronically time/date stamped, which will serve as receipt of submission. You will receive an e-mail notice of receipt when HHS/CDC receives the application.

If you submit your application by the United States Postal Service or commercial delivery service, you must ensure the carrier will be able to guarantee delivery by the closing date and time. If HHS/CDC receives your submission after closing because: (1) Carrier error, when the carrier accepted the package with a guarantee for delivery by the closing date and time, or (2) significant weather delays or natural disasters, you will have the opportunity to submit documentation of the carriers guarantee. If the documentation verifies a carrier problem, HHS/CDC will consider the submission as received by the deadline.

If you submit a hard copy application, HHS/CDC will not notify you upon receipt of your submission. If you have a question about the receipt of your application, first contact your courier. If you still have a question, contact the PGO-TIM staff at: 770-488-2700. Before calling, please wait two to three days after the submission deadline. This will allow time for us to process and log submissions.

This announcement is the definitive guide on application content, submission address, and deadline. It supersedes information provided in the application instructions. If your submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• Funds may be spent for reasonable program purposes, including personnel, travel, supplies, and services. Equipment may be purchased if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the U.S. or to international organizations regardless of their location.

• The applicant may contract with other organizations under this program; however, the applicant must perform a substantial portion of the activities (including program management and operations, and delivery of prevention services for which funds are required).

• You must obtain an annual audit of these HHS/CDC funds (program-specific audit) by a U.S.-based audit firm with international branches and current licensure/authority in-country, and in accordance with International Accounting Standards or equivalent standards(s) approved in writing by HHS/CDC.

• A fiscal Recipient Capability Assessment may be required, prior to or post award, in order to review the applicant's business management and fiscal capabilities regarding the handling of U.S. Federal funds.

• Needle Exchange—No funds appropriated under this Act shall be used to carry out any program of distributing sterile needles or syringes for the hypodermic injection of any illegal drug.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You can find guidance for completing your budget on the HHS/CDC Web site, at the following Internet address: http://www.cdc.gov/od/pgo/funding/budgetguide.htm.

IV.6. Other Submission Requirements

Application Submission Address: HHS/CDC strongly encourages you to submit electronically at: http://www.grants.gov. You will be able to download a copy of the application package from http://www.grants.gov, complete it offline, and then upload and submit the application via the Grants.gov site. We will not accept e-mail submissions. If you are having technical difficulties in Grants.gov, you may reach them by e-mail at support@grants.gov, or by phone at 1-800-518-4726 (1-800-518-GRANTS). The Customer Support Center is open from 7 a.m. to 9 p.m. Eastern Time, Monday through Friday.

HHS/CDC recommends that you submit your application to Grants.gov early enough to resolve any unanticipated difficulties prior to the deadline. You may also submit a back-up paper submission of your application. We must receive any such paper submission in accordance with the requirements for timely submission detailed in Section IV.3. of the grant announcement.

You must clearly mark the paper submission : “BACK-UP FOR ELECTRONIC SUBMISSION.”

The paper submission must conform to all requirements for non-electronic submissions. If we receive both electronic and back-up paper submissions by the deadline, we will consider the electronic version the official submission.

We strongly recommended that you submit your grant application by using Microsoft Office products (e.g., Microsoft Word, Microsoft Excel, etc.). If you do not have access to Microsoft Office products, you may submit a PDF file. You may find directions for creating PDF files on the Grants.gov Web site. Use of files other than Microsoft Office or PDF could make your file unreadable for our staff.

or

Submit the original and two hard copies of your application by mail or express delivery service to the following address: Technical Information Management-AA012, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application, and they will be an element of evaluation.

We will evaluation the application against the following criteria:

1. Program Plan (40 points).

a. Are the program and strategy based on sound reasoning or evidence, and do they match the five-year strategy and goals of the President's Emergency Plan for AIDS Relief? (10 points)

b. Does the applicant demonstrate an understanding of the national cultural and political context and the technical and programmatic areas covered by the project? (5 points)

c. Does the applicant display knowledge of the five-year strategy and goals of the President's Emergency Plan? (5 points)

d. Are the proposed program objectives specific, measurable, achievable, culturally appropriate and time-phased? (5 points)

e. What is the likelihood that the proposed program activities will accomplish the proposed program objectives and contribute to the achievement of the numerical goals of the President's Emergency Plan? (10 points)

f. Is the proposed timeline feasible? (5 points)

2. Program Experience (20 points).

Is the applicant's program experience relevant to the provision of the services it intends to provide? Does the applicant demonstrate the local experience and capability to achieve the goals of the project?

3. Organizational Capacity (20 points).

Does the applicant demonstrate current organizational capacity to provide the services that they intend to provide, including the ability to provide trainers fluent in the local languages of the targeted countries?

4. Evaluation Monitoring Plan (20 points).

Is the evaluation/monitoring plan feasible and does it address the required target goals, process and outcome data collection, analysis and reporting activities consistent with the guidelines established by the Office of the U.S. Global AIDS Coordinator?

5. Budget and Justification (Reviewed, but not scored).

Is the budget itemized, well-justified and consistent with the five-year strategy and goals of the President's Emergency Plan and Emergency Plan activities in targeted countries?

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

V.3. Anticipated Award Date

September 15, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74 and Part 92.

For more information on the Code of Federal Regulations, see the National Archives and Records Administration at the following Internet address: http://www.access.gpo.gov/nara/cfr/cfr-table-search.html.

The following additional requirements apply to this project:

• AR-4 HIV/AIDS Confidentiality Provisions.

• AR-5 HIV Program Review Panel Requirements.

• AR-7 Executive Order 12372.

• AR-8 Public Health System Reporting Requirements.

• AR-14 Accounting System Requirements.

• AR-15 Proof of Non-Profit Status.

Applicants can find additional information on these requirements on the HHS/CDC Web site at the following Internet address: http://www.cdc.gov/od/pgo/funding/ARs.htm.

You need to include an additional Certifications form from the PHS 5161-1 application in your Grants.gov electronic submission only. Please refer to http://www.cdc.gov/od/pgo/funding/PHS5161-1-Certificates.pdf. Once you have filled out the form, please attach it to your Grants.gov submission as Other Attachment Forms.

VI.3. Reporting Requirements

You must provide HHS/CDC with an original, plus two hard copies, of the following reports (in English and French):

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness, including progress against the numerical goals of the President's Emergency Plan for AIDS Relief.

f. Additional Requested Information.

2. Annual progress report, due no more than 60 days after the end of the budget period. Reports should include progress against the numerical goals of the President's Emergency Plan for AIDS Relief.

3. Financial status report, due no more than 90 days after the end of the budget period.

4. Final financial and performance reports, no more than 90 days after the end of the project period.

Recipients must mail these reports to the Grants Management or Contract Specialist listed in the “Agency Contacts” section of this announcement.

VII. Agency Contacts

We encourage inquiries concerning this announcement.

For general questions, contact: Technical Information Management Section, CDC Procurement and Grants Office, U.S. Department of Health and Human Services, 2920 Brandywine Road, Atlanta, GA 30341, Telephone: 770-488-2700.

For program technical assistance, contact: Sherry Orloff, Project Officer, HHS/CDC/NCHSTP/GAP, 1600 Clifton Road, NE. (MS-E30), Atlanta, GA 30333, Telephone: (404) 639-8838, E-mail: SOrloff@cdc.gov.

For financial, grants management, or budget assistance, contact: Diane Flournoy, Grants Management Specialist, CDC Procurement and Grants Office, U.S. Department of Health and Human Services, 2920 Brandywine Road, Atlanta, GA 30341, Telephone: 770-488-2072, E-mail: dmf6@cdc.gov.

VIII. Other Information

Applicants can find this and other HHS funding opportunity announcements on the HHS/CDC Web site, Internet address: http://www.cdc.gov (Click on “Funding” then “Grants and Cooperative Agreements”), and on the Web site of the HHS Office of Global Health Affairs, Internet address: http://www.globalhealth.gov.

Dated: August 5, 2005.
William P. Nichols,
Director, Procurement and Grants Office, Centers for Disease Control and Prevention, U.S. Department of Health and Human Services.

[FR Doc. 05-15879 Filed 8-10-05; 8:45 am]

BILLING CODE 4163-18-P